DEPARTMENT OF LABOR

Employee Benefits Security Administration

Withdrawal of Proposed Exemption From Certain Prohibited Transaction Restrictions

In the Federal Register dated May 5, 2011 (76 FR 25719), the Department of Labor (the Department) published a notice of proposed exemption from the prohibited transaction restrictions of the Employee Retirement Income Security Act of 1974 and from certain taxes imposed by the Internal Revenue Code of 1986. The notice concerned an application, D-11639, filed on behalf of Wolverine Bronze Company Profit Sharing Plan and Trust (the Plan) and BDR Oil, LLC located in Roseville, Michigan, involving the proposed sale, for cash at fair market value, of a note receivable and royalty interests (ORRIs)—collectively, the Alternative Investments, by the Plan to BDR Oil, LLC, an entity owned by three officers/employees of the Plan.

On May 19, 2011, the Department was informed by a representative of the Applicant that BDR Oil, LLC no longer intended to purchase the Alternative Investments from the Plan. Accordingly, on its own motion, the Department hereby withdraws the foregoing notice of proposed exemption.

Signed at Washington, DC, this 19th day of August, 2011.
Ivan L. Strasfeld,
Director, Office of Exemption Determinations, Employee Benefits Security Administration, U.S. Department of Labor.

[FR Doc. 2011-24530 Filed 9-23-11; 8:45 am]

BILLING CODE 4510-29-P